DEPARTMENT OF COMMERCE

International Trade Administration

[A-351-806]

Silicon Metal from Brazil; Notice of Amended Final Results of Antidumping Duty Administrative Review Pursuant to Final Court Decision

AGENCY: Import Administration, International Trade Administration, Department of Commerce.

ACTION: Notice of amended final results of antidumping duty administrative review pursuant to final court decision.

EFFECTIVE DATE: March 8, 2002.

FOR FURTHER INFORMATION CONTACT: James Doyle, Import Administration, International Trade Administration, U.S. Department of Commerce, 14th Street and Constitution Avenue NW, Washington, DC 20230; telephone: (202) 482-0159.

SUMMARY: The United States Court of International Trade (“the CIT”) has affirmed the Department of Commerce's final remand results affecting final assessment rates for the administrative review of the antidumping duty order of silicon metal from Brazil. The period of review is March 29, 1991, through June 30, 1992. As there is now a final and conclusive court decision in this case, we are amending our final results of review and we will instruct the Customs Service to liquidate entries subject to this review.

SUPPLEMENTARY INFORMATION:

Background

On July 31, 1991, the Department published the antidumping duty order on silicon metal from Brazil. See Antidumping Duty Order: Silicon Metal from Brazil, 56 FR 36135 (July 31, 1991). On August 19, 1994, the Department published its final results of the first administrative review of silicon metal from Brazil. See Final Results of Antidumping Duty Administrative Review on Silicon Metal from Brazil, 59 FR 42806 (August 19, 1994) (“Final Results”). On May 15, 1997, pursuant to the Department's request, the CIT issued an order remanding eight issues from the Final Results. See American Silicon Technologies et. al v. United States, 21 CIT 501 (1997). The CIT directed the Department to: (1) correctly calculate the general, selling, and administrative (“GS&A”) expenses for Eletrosilex Belo Horizonte (“Eletrosilex”) for the month in question; (2) calculate G&A expenses using Eletrosilex's historical cost of manufacture (“COM”) data; (3) calculate the U.S. packing expenses for Companhia Ferroligas Minas Gerais-Minasligas (“Minasligas”), removing the U.S. dollar exchange rate; (4) calculate imposto sobre a circulacao de mercadorias e servicos (“ICMS”) and imposto sobre produtos industrialzados (“IPS”) taxes Minasligas paid on imported electrodes removing the duty drawback adjustment; (5) recalculate the interest rate for U.S. dollar receivables for Minasligas; (6) review the calculated margin for Eletrosilex that compared United States (“USP”) to constructed value (“CV”) for a month other than the month of shipment; (7) review the use of projected costs rather than replacement costs in determining Eletrosilex's CV; and (8) review the adjustment of Minasligas' interest expenses for monetary correction of loans. The CIT stayed further action on three other issues pending the results of related litigation. On November 14, 1997, for the aforementioned eight issues, we provided the CIT with our final results of redetermination pursuant to court remand. See Silicon Metal from Brazil, Final Results of Redetermination Pursuant to Court Remand Court No. 94-09-0055 (“American Silicon Remand I”). In the remand redetermination the Department recalculated: 1) Eletrosilex's GS&A expenses using the GS&A expenses and historical COM incurred by Eletrosilex during an entire year; 2) the U.S. packing expenses for Minasligas, removing the U.S. dollar exchange rate; 3) the IPI and ICMS taxes Minasligas paid on imported electrodes removing the duty drawback adjustment; 4) Minasligas' U.S. credit expenses by using the actual U.S. credit expenses incurred by Minasligas; 5) Eletrosilex's CV to account for the effect of inflation; and 6) Eletrosilex's CV based on the replacement costs incurred by Eletrosilex. We determined that our adjustment for Minasligas' interest expense was appropriate. After the initial remand results were issued, the Court, on motion of the Department, ordered a second remand on whether data from the audited financial statements of Electrosilex should be utilized in calculating Eletrosilex's GS&A expenses. See American Silicon Technologies et. al v. United States, 22 CIT 128 (1998). On January 29, 1999, for the aforementioned one issue, we provided the CIT with our final results of redetermination pursuant to court remand. See Silicon Metal from Brazil, Final Results of Redetermination Pursuant to Court Remand, American Silicon Technologies v. United States, Court No. 94-09-00555, Slip Op. 98-22 (March 5, 1998) (“American Silicon Remand II”). In our redetermination, we recalculated Eletrosilex's GS&A expenses based upon Eletrosilex's audited financials. Upon review, the CIT sustained American Silicon Remand I and American Silicon Remand II and lifted the stay on the remaining three issues. See American Silicon Technologies et. al v. United States, No. 94-09-00555, Slip Op. 99-94 (Ct. Int'l Trade Sept. 9, 1999).

Of the remaining three issues, one was dismissed pursuant to the unopposed motion of the plaintiff. See American Silicon Technologies et. al v. United States, 118 F. Supp. 2d 1329, 1333 (CIT 2000). Pursuant to the Court orders of October 13, 2000, and January 24, 2001, we recalculated: 1) Companhia Brasileira Carbureto de Calcio's (“CBCC”) financial expense by using as best information available its parent company's gross, rather than net, financial expenses; and 2) CBCC's and Minasligas' CV to include the ICMS and IPI paid by CBCC and Minasligas pursuant to the CIT's instructions to proceed consistent with Camargo Correa Metais, S.A. v. United States, 200 F. 3d 771 (Fed. Cir. 1999). See Silicon Metal From Brazil, Final Results of Redetermination Pursuant To Court Remand, American Silicon Technologies et. al vs. United States, 118 F. Supp. 2d 1329, Court No. 94-09-00555, Slip Op. 2000-130 (CIT October 13, 2000) (“American Silicon Remand III”), filed on March 12, 2001. Upon review, the Court sustained American Silicon Remand III. See American Silicon Technologies et. al v. United States, No. 94-09-00555, Slip Op. 01-90 (Ct. Int'l Trade July 27, 2001) (“Slip Op. 01-90”).

Slip Op. 01-90 was not appealed. As there is a final and conclusive court decision in this case, we are amending our final results of review for the period March 29, 1991 through June 30, 1992, and we will instruct the Customs Service to liquidate entries subject to this review.

The revised weighted-average percentage margins are as follows:

Manufacturer/­exporter | Margin (percent)
CBCC | 0.42
Eletrosilex | 53.63
Minasligas | 48.48

Accordingly, the Department will determine, and the Customs Service will assess, antidumping duties on all appropriate entries of subject merchandise in accordance with these amended final results. For assessment purposes, we have calculated importer-specific duty assessment rates for each class or kind of merchandise based on the ratio of the total amount of antidumping duties calculated for the examined sales to the total quantity of sales examined. For companies covered by these amended results, the Department will issue appraisement instructions to the Customs Service after publication of this amended final results of review. This notice is published in accordance with section 751(a)(1) of the Tariff Act (19 U.S.C. 1675(a)(1)) and 19 CFR 351.221.

March 4, 2002
Faryar Shirzad,
Assistant Secretary for Import Administration.

[FR Doc. 02-5658 Filed 3-7-02; 8:45 am]

BILLING CODE 3510-DS-S